DEPARTMENT OF COMMERCE

National Telecommunications and Information Administration

Commerce Spectrum Management Advisory Committee Meeting

AGENCY: National Telecommunications and Information Administration, U.S. Department of Commerce.

ACTION: Notice of Open Meeting.

SUMMARY: This notice announces a public meeting of the Commerce Spectrum Management Advisory Committee (Committee). The Committee provides advice to the Assistant Secretary of Commerce for Communications and Information on spectrum management policy matters.

DATES: The meeting will be held on June 18, 2013, from 1:00 p.m. to 4:00 p.m., Eastern Daylight Time.

ADDRESSES: The meeting will be held at the U.S. Department of Commerce, 1401 Constitution Avenue NW., Room 4830, Washington, DC 20230. Public comments may be mailed to Commerce Spectrum Management Advisory Committee, National Telecommunications and Information Administration, 1401 Constitution Avenue NW., Room 4099, Washington, DC 20230 or emailed to spectrumadvisory@ntia.doc.gov.

FOR FURTHER INFORMATION CONTACT: Bruce M. Washington, Designated Federal Officer, at (202) 482-6415 or BWashington@ntia.doc.gov; and/or visit NTIA's Web site at http://www.ntia.doc.gov/category/csmac.

SUPPLEMENTARY INFORMATION: Background: The Committee provides advice to the Assistant Secretary of Commerce for Communications and Information on needed reforms to domestic spectrum policies and management in order to: license radio frequencies in a way that maximizes their public benefits; keep wireless networks as open to innovation as possible; and make wireless services available to all Americans. See charter, at http://www.ntia.doc.gov/other-publication/2013/csmac-2013-charter. This Committee is subject to the Federal Advisory Committee Act (FACA), 5 U.S.C. App. 2, and is consistent with the National Telecommunications and Information Administration Act, 47 U.S.C. 904(b). The Committee functions solely as an advisory body in compliance with the FACA. For more information about the Committee visit: http://www.ntia.doc.gov/category/csmac.

Matters To Be Considered: The Committee will receive reports from designated committee members on the recommendations of working groups (WGs) which were established to facilitate collaboration efforts between industry and government stakeholders to develop proposed relocation, transition, and sharing arrangements and plans for the 1695-1710 MHz and the 1755-1850 MHz bands:

1. WG1 1695-1710 MHz Weather Satellite Receive Earth Stations,

2. WG2 1755-1850 MHz Law Enforcement Surveillance and other short-range fixed,

3. WG3 1755-1850 MHz Satellite Control Links and Electronic Warfare,

4. WG4 1755-1850 MHz Fixed Point-to-Point and Tactical Radio Relay, and

5. WG5 1755-1850 MHz Airborne Operations.

NTIA will post a detailed agenda on its Web site, http://www.ntia.doc.gov, prior to the meeting. To the extent that the meeting time and agenda permit, any member of the public may speak to or otherwise address the advisory committee regarding agenda items. During the portion of the meeting when the public may make an oral presentation, speakers may address only matters the subject of which are on the agenda. See Open Meeting and Public Participation Policy, available at http://www.ntia.doc.gov/category/csmac.

Time and Date: The meeting will be held on June 18, 2013 from 1:00 p.m. to 4:00 p.m., Eastern Daylight Time. The times and the agenda topics are subject to change. The meeting will be available via two-way audio link and may be webcast. Please refer to NTIA's Web site, http://www.ntia.doc.gov, for the most up-to-date meeting agenda and access information.

Place: The meeting will be held at the U.S. Department of Commerce, National Telecommunications and Information Administration, 1401 Constitution Avenue NW., Room 4830, Washington, DC 20230. The meeting will be open to the public and press on a first-come, first-served basis. Space is limited. The public meeting is physically accessible to people with disabilities. Individuals requiring accommodations, such as sign language interpretation or other ancillary aids, are asked to notify Mr. Washington, at (202) 482-6415 or BWashington@ntia.doc.gov, at least five (5) business days before the meeting.

Status: Interested parties are invited to attend and to submit written comments to the Committee at any time before or after the meeting. Parties wishing to submit written comments for consideration by the Committee in advance of this meeting must send them to NTIA's Washington, DC office at the above-listed address and comments must be received by close of business on June 12, 2013, to provide sufficient time for review. Comments received after June 12, 2013 will be distributed to the Committee, but may not be reviewed prior to the meeting. It would be helpful if paper submissions also include a compact disc (CD) in HTML, ASCII, Word, or WordPerfect format (please specify version). CDs should be labeled with the name and organizational affiliation of the filer, and the name of the word processing program used to create the document. Alternatively, comments may be submitted electronically to spectrumadvisory@ntia.doc.gov. Comments provided via electronic mail also may be submitted in one or more of the formats specified above.

Records: NTIA maintains records of all Committee proceedings. Committee records are available for public inspection at NTIA's Washington, DC office at the address above. Documents including the Committee's charter, member list, agendas, minutes, and any reports are available on NTIA's Committee Web page at http://www.ntia.doc.gov/category/csmac.

Dated: April 16, 2013.
Kathy D. Smith,
Chief Counsel, National Telecommunications and Information Administration.

[FR Doc. 2013-09235 Filed 4-18-13; 8:45 am]

BILLING CODE 3510-60-P